DEPARTMENT OF HOUSING AND URBAN DEVELOPMENT

[Docket No. FR-4910-N-03]

Notice of Proposed Information Collection for Public Comment—Public and Indian Housing—Line of Credit Control System/Voice Response System: LOCCS/VRS Payment Vouchers

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: March 22, 2004.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4255, Washington, DC 20410-5000.

FOR FURTHER INFORMATION CONTACT: Mildred M. Hamman, (202) 708-0614, extension 4128. (This is not a toll-free number).

SUPPLEMENTARY INFORMATION: The Department will submit the proposed information collection to OMB for review, as required by the Paperwork Reduction Act of 1995 (44 U.S.C. chapter 35, as amended).

The Line of Credit Control System (LOCCS) is HUD computerized cash management and disbursement system developed to assist the Chief Financial Officer (CFO) in planning, accounting, and evaluating HUD disbursements within specific Public and Indian Housing (PIH) housing program areas. The Voice Response System (VRS) allows the grant recipient to requisition grant funds via a touch-tone telephone. The applicable payment voucher will be prepared by the grantee before calling LOCCS/VRS with the drawdown request, and will be used as a prompt for entering the information through the touch-tone pat and for confirming information that is spoken back by the VRS simulated voice.

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Public and Indian Housing—Line of Credit Control System/Voice Response System: LOCCS/VRS Payment Voucher.

OMB Control Number: 2577-0166.

Description of the need for the information and proposed use: Grant recipients will use the applicable payment voucher to request funds from HUD through the LOCCS/VRS voice activated system. The information collected on the payment voucher will also be used as an internal control measure to ensure the lawful and appropriate disbursement of Federal funds as well as provide a service to program recipients.

Agency form numbers, if applicable: HUD-50080 Series.

Members of affected public: Local, State, or Tribal Governments; Resident Organizations.

Estimation of the total number of hours needed to prepare the information collection including number of respondents, frequency of response, and hours of response: 5,312 respondents, 22 responses per respondent; 116,864 total responses, .15 minutes per responses (116,864 × .15) 17,540 total reporting burden hours.

Status of the proposed information collection: Extension of a currently approved collection.

Authority: Section 3506 of the Paperwork Reduction Act of 1995, 44 U.S.C. chapter 35, as amended.

Dated: December 31, 2003.
William Russell III,
Deputy Assistant Secretary for Public Housing and Voucher Programs.

[FR Doc. 04-1103 Filed 1-16-04; 8:45 am]

BILLING CODE 4210-33-M